DEPARTMENT OF JUSTICE

Antitrust Division

Notice Pursuant to the National Cooperative Research and Production Act of 1993—IAP Research, Inc.: Electromagnetic Dynamic Compaction II

Notice is hereby given that, on October 1, 1999, pursuant to Section 6(a) of the National Cooperative Research and Production Act of 1993, 15 U.S.C. 4301 et seq. (“the Act”), IAP Research, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are IAP Research, Inc., Dayton, OH; General Motors Powertrain, Pontiac, MI; Zenith Sintered Products, Germantown, WI; and Delphi, Anderson, IN. The nature and objectives of the venture are to conduct research on Electromagnetic Dynamic Compaction. The activities of this project will be partially funded by an award from the Advanced Technology Program, National Institute of Standards and Technology, Department of Commerce.

Constance K. Robinson,
Director of Operations, Antitrust Division.

[FR Doc. 00-12038 Filed 5-11-00; 8:45 am]

BILLING CODE 4410-11-M